DEPARTMENT OF COMMERCE

National Oceanic and Atmospheric Administration

50 CFR Part 648

[Docket No. 020409081-3154-02; I.D. 032103B]

RIN 0648-AQ72

Fisheries of the Northeastern United States; Magnuson-Stevens Fishery Conservation and Management Act Provisions; Northeast (NE) Multispecies Fishery

AGENCY: National Marine Fisheries Service (NMFS), National Oceanic and Atmospheric Administration (NOAA), Commerce.

ACTION: Notice of continuation of regulations.

SUMMARY: The regulations contained in the emergency rule published on June 27, 2003, in order to reduce overfishing and continue conservation measures, are continued for an additional 180 days, after which subsequent Secretarial action may be taken to ensure that sufficient measures to reduce overfishing remain in place, or until Amendment 13 to the NE Multispecies Fishery Management Plan (FMP) is implemented (on or about May 1, 2004), whichever occurs first. Amendment 13 will implement rebuilding plans for several groundfish stocks and address capacity issues in the fishery. This notice is necessary to comply with the Magnuson-Stevens Fishery Conservation and Management Act (Magnuson-Stevens Act) regarding the continuation of emergency measures.

DATES: The final emergency rule published June 27, 2003, at 68 FR 38234, which became effective July 28, 2003, continues in effect until superseded by a future rule action to be published in the Federal Register.

ADDRESSES: Copies of the small entity compliance guide prepared for the June 27, 2003, final emergency rule are available from Patricia A. Kurkul, Regional Administrator, NE Regional Office, National Marine Fisheries Service, One Blackburn Drive, Gloucester, MA 01930-2298. The letter is also accessible via the Internet at http://www.nero.noaa.gov. Copies of the June 27, 2003, final emergency rule, including the Environmental Assessment/ Regulatory Impact Review/Final Regulatory Flexibility Analysis (EA/RIR/FRFA), and public comments and responses are available upon request from the Regional Administrator. The EA/RIR/FRFA is also accessible via the Internet at http://www.nero.nmfs.gov.

FOR FURTHER INFORMATION CONTACT: Susan Chinn, Fishery Management Specialist, (978) 281-9218, fax (978) 281-9135, e-mail Susan.Chinn@noaa.gov.

SUPPLEMENTARY INFORMATION:

Background

On August 1, 2002, NMFS published an interim final rule (67 FR 50292) that implemented interim measures intended to reduce overfishing on species managed under the FMP. The August 1, 2002, interim final rule was in response to a Remedial Order issued on May 23, 2002, by the U.S. District Court for the District of Columbia (Court). The interim rule completed implementation of restrictions specified in a Settlement Agreement, which was ordered to be implemented by the Court.

Based on the May 23, 2002, Court Order, the management measures implemented by the August 1, 2002, interim rule and its extension, must remain in effect until implementation of Amendment 13 to the FMP, which is scheduled to be in effect no later than May 1, 2004. On January 22, 2003, NMFS published a Notice of Continuation of Regulations in the Federal Register (68 FR 2919) to inform the public of the continuance of the interim regulations for a second 180-day period. Under the Magnuson-Stevens Act, however, the authority to implement interim regulations is limited to two consecutive 180-day periods. The second 180-day period ended on July 27, 2003.

Because the schedule for implementation of Amendment 13 was extended until May 1, 2004, emergency Secretarial action was necessary to continue the current management measures from July 28, 2003, until the implementation of Amendment 13 (on or about May 2004). Due to the need to continue the regulations until May 1, 2004, a proposed emergency rule, soliciting public comment, was published on April 24, 2003 (68 FR 20096), and subsequently corrected on May 9, 2003 (68 FR 24914), followed by a final emergency rule (68 FR 38234), published on June 27, 2003, implementing emergency measures intended to reduce overfishing on species managed under the FMP and to continue most interim conservation measures specified in the Settlement Agreement until Amendment 13 is implemented. These measures included a freeze on days-at-sea (DAS) at the highest annual level used from fishing years 1996-2000 and a 20-percent cut from that level; a freeze on the issuance of new open access Hand-gear permits; gear restrictions for certain gear types, including gillnets, hook-gear and trawl nets; modifications and additions to the closure areas; and restrictions on yellowtail flounder catch. In addition, in response to public comment on the proposed rule, the final emergency rule implemented measures pertaining to haddock, including reducing the haddock minimum size limit for private recreational and party/charter vessels to 21 inches (52.5 cm), and relaxing the haddock trip limit (also known as bag limit) for charter/party and open access Handgear permit vessels.

Pursuant to section 305(c) of the Magnuson-Stevens Act, the June 27, 2003, emergency rule may remain in effect for 180 days and may be extended through publication in the Federal Register, for one additional period of 180 days, provided the public has had an opportunity to comment on the emergency rule. The public was given such opportunity to comment in the form of a proposed rule before the final emergency rule was published. NMFS has determined that it is necessary to continue this emergency rule to reduce overfishing and to comply with the Court Order. Because the management measures implemented by the June 27, 2003, final emergency rule were written in such a way as to be effective indefinitely, no formal regulatory action is necessary. Instead, to comply with section 305(c) of the Magnuson-Stevens Act, it is necessary only to publish in the Federal Register a Notice of Continuation of Regulations to inform the public that NMFS has decided to continue these regulations. The impacts of continuing the Settlement Agreement measures, with some modifications, were analyzed in the Environmental Assessment completed for the June 27, 2003, final emergency rule.

The June 27, 2003, final emergency rule was determined to be significant for purposes of Executive Order 12866.

Authority: 16 U.S.C. 1801 et seq.

Dated: December 16, 2003.
Rebecca Lent,
Deputy Assistant Administrator for Regulatory Programs, National Marine Fisheries Service.

[FR Doc. 03-31484 Filed 12-17-03; 2:56 pm]

BILLING CODE 3510-22-S